DEPARTMENT OF LABOR

Employment and Training Administration

[TA-W-52,408]

Texas Steel Partners, Ft. Worth, Texas; Notice of Termination of Investigation

Pursuant to Section 221 of the Trade Act of 1974, as amended, an investigation was initiated on July 28, 2003, in response to a petition filed by an authorized State of Texas representative on behalf of workers at Texas Steel Partners, Ft. Worth, Texas.

The petitioner has requested that the petition be withdrawn. Consequently, the investigation has been terminated.

Signed at Washington, DC, this 21st day of August 2003.
Elliott S. Kushner,
Certifying Officer, Division of Trade Adjustment Assistance.

[FR Doc. 03-23726 Filed 9-16-03; 8:45 am]

BILLING CODE 4510-30-P